DEPARTMENT OF COMMERCE

International Trade Administration

[A-201-836, A-489-815, A-570-914, A-580-859, C-570-915]

Light-Walled Rectangular Pipe and Tube From the Republic of Korea, Mexico, the Republic of Turkey, and the People's Republic of China: Continuation of Antidumping and Countervailing Duty Orders

AGENCY: Enforcement and Compliance, International Trade Administration, Department of Commerce.

SUMMARY: As a result of the determinations by the Department of Commerce (Commerce) and the International Trade Commission (ITC) that revocation of the antidumping duty (AD) and countervailing duty (CVD) orders on light-walled rectangular pipe and tube (light-walled pipe) from the Republic of Korea (Korea), Mexico, the Republic of Turkey (Turkey), and the People's Republic of China (China) would likely lead to continuation or recurrence of dumping, countervailable subsidies, and material injury to an industry in the United States, Commerce is publishing a notice of continuation of these AD and CVD orders.

DATES: Applicable August 4, 2020.

FOR FURTHER INFORMATION CONTACT: Ian Hamilton, AD/CVD Operations, Enforcement and Compliance, International Trade Administration, U.S. Department of Commerce, 1401 Constitution Avenue NW, Washington, DC 20230; telephone: (202) 482-4798.

SUPPLEMENTARY INFORMATION:

Background

On May 1, 2019, the ITC instituted,¹ and Commerce initiated,² the second five-year (sunset) reviews of the AD and CVD orders on light-walled pipe from Korea, Mexico, Turkey, and China (collectively, the AD Orders) and the second sunset review of the countervailing duty order on light-walled pipe from China (CVD Order), pursuant to section 751(c) of the Tariff Act of 1930, as amended (the Act). As a result of its reviews, Commerce determined that revocation of the AD Orders on light-walled pipe from Korea, Mexico, Turkey, and China would be likely to lead to continuation or recurrence of dumping and notified the ITC of the magnitude of the margins of dumping likely to prevail should the AD Orders be revoked.³ Commerce also determined, as a result of its review, that revocation of the CVD Order on light-walled pipe from China would be likely to lead to continuation or recurrence of countervailable subsidies and notified the ITC of the magnitude of the subsidy rates likely to prevail were the CVD Order revoked.⁴

¹ See Light-Walled Rectangular Pipe and Tube from China, Korea, Mexico, and Turkey; Institution of Five-Year Reviews, 84 FR 18577 (May 1, 2019).

² See Initiation of Five-Year (Sunset) Reviews, 84 FR 18477 (May 1, 2019).

³ See Light-Walled Rectangular Pipe and Tube from the Republic of Korea, Mexico, Turkey, and the People's Republic of China: Final Results of the Expedited Second Sunset Reviews of the Antidumping Duty Orders, 84 FR 44849 (August 27, 2019), and accompanying Issues and Decision Memorandum (IDM).

⁴ See Light-Walled Rectangular Pipe and Tube from the People's Republic of China: Final Results of the Expedited Second Five-Year Sunset Review of the Countervailing Duty Order, 84 FR 45726 (August 30, 2019), and accompanying IDM.

On July 27, 2020, the ITC published its determinations, pursuant to sections 751(c) and 752(a) of the Act, that revocation of the AD Orders and CVD Order would likely lead to continuation or recurrence of material injury to an industry in the United States within a reasonably foreseeable time.⁵

⁵ See Light-Walled Rectangular Pipe and Tube from China, Korea, Mexico, and Turkey (Investigation Nos. 701-TA-449 and 731-TA-1118-1121 (Second Review)), 85 FR 45228 (July 27, 2020); see also Light-Walled Rectangular Pipe and Tube from China, Korea, Mexico, and Turkey (Inv. Nos. 701-TA-449 and 731-TA-1118-1121 (Second Review)), USITC Pub. 5086, July 2020.

Scope of the Orders

The merchandise covered by these orders is certain welded carbon quality light-walled steel pipe and tube, of rectangular (including square) cross section, having a wall thickness of less than 4 mm.

The term carbon-quality steel includes both carbon steel and alloy steel which contains only small amounts of alloying elements. Specifically, the term carbon-quality includes products in which none of the elements listed below exceeds the quantity by weight respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent vanadium, or 0.15 percent of zirconium. The description of carbon-quality is intended to identify carbon-quality products within the scope.

The welded carbon-quality rectangular pipe and tube subject to these orders is currently classified under the Harmonized Tariff Schedule of the United States (HTSUS) subheadings 7306.61.50.00 and 7306.61.70.60. While HTSUS subheadings are provided for convenience and Customs purposes, our written description of the scope of the orders is dispositive.

Continuation of the Orders

As a result of the determinations by Commerce and the ITC that revocation of the AD Orders and CVD Order would likely lead to a continuation or a recurrence of dumping and countervailable subsidies, as well as material injury to an industry in the United States, pursuant to section 751(d)(2) of the Act and 19 CFR 351.218(a), Commerce hereby orders the continuation of the AD Orders and CVD Order. U.S. Customs and Border Protection will continue to collect AD and CVD cash deposits at the rates in effect at the time of entry for all imports of subject merchandise. The effective date of the continuation of the AD Orders and CVD Order will be the date of publication in the Federal Register of this notice of continuation. Pursuant to section 751(c)(2) of the Act and 19 CFR 351.218(c)(2), Commerce intends to initiate the next five-year review of the AD Orders and CVD Order not later than 30 days prior to the fifth anniversary of the effective date of continuation.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

Notification to Interested Parties

These five-year (sunset) reviews and this notice are in accordance with sections 751(c) and (d)(2) of the Act and published in accordance with section 777(i) of the Act, and 19 CFR 351.218(f)(4).

Dated: July 28, 2020.
Jeffrey I. Kessler,
Assistant Secretary for Enforcement and Compliance.

[FR Doc. 2020-16871 Filed 8-3-20; 8:45 am]

BILLING CODE 3510-DS-P